SMALL BUSINESS ADMINISTRATION

[Declaration of Disaster #3448]

State of Texas; Disaster Loan Areas

As a result of the President's major disaster declaration on September 26, 2002, I find that Brazoria, Frio, Galveston, La Salle, Live Oak, Matagorda, Nueces, San Patricio and Wharton Counties in the State of Texas constitute a disaster area due to damages caused by Tropical Storm Fay occurring on September 6, 2002, and continuing. Applications for loans for physical damage as a result of this disaster may be filed until the close of business on November 25, 2002 and for economic injury until the close of business on June 26, 2003 at the address listed below or other locally announced locations:

U.S. Small Business Administration, Disaster Area 3 Office, 4400 Amon Carter Blvd., Suite 102, Fort Worth, TX 76155.

In addition, applications for economic injury loans from small businesses located in the following contiguous counties may be filed until the specified date at the above location: Aransas, Atascosa, Austin, Bee, Chambers, Colorado, Dimmit, Duval, Fort Bend, Harris, Jackson, Jim Wells, Karnes, Kleberg, Lavaca, McMullen, Medina, Refugio, Uvalde, Webb and Zavala in the State of Texas.

The interest rates are:

| Percent
For Physical Damage:
Homeowners With Credit Available Elsewhere | 6.625
Homeowners Without Credit Available Elsewhere | 3.312
Businesses With Credit Available Elsewhere | 7.000
Businesses and Non-Profit Organizations Without Credit Available Elsewhere | 3.500
Others (Including Non-Profit Organizations) With Credit Available Elsewhere | 6.375
For Economic Injury: Businesses and Small Agricultural Cooperatives Without Credit Available Elsewhere | 3.500

The number assigned to this disaster for physical damage is 344811. For economic injury the number is 9R8000.

(Catalog of Federal Domestic Assistance Program Nos. 59002 and 59008)
Dated: September 26, 2002.
S. George Camp,
Acting Associate Administrator for Disaster Assistance.

[FR Doc. 02-25144 Filed 10-2-02; 8:45 am]

BILLING CODE 8025-01-P